DEPARTMENT OF COMMERCE

Foreign-Trade Zones Board

[Docket 23-2006]

Foreign-Trade Zone 49 -- Newark, New Jersey, Area, Application For Expansion

An application has been submitted to the Foreign-Trade Zones (FTZ) Board (the Board), by the Port Authority of New York and New Jersey, grantee of Foreign-Trade Zone 49, requesting authority to expand its zone to include four additional sites in the Newark, New Jersey area, within the Newark/New York Customs port of entry. The application was submitted pursuant to the provisions of the Foreign-Trade Zones Act, as amended (19 U.S.C. 81a-81u), and the regulations of the Board (15 CFR part 400). It was formally filed on June 14, 2006.

FTZ 49 was approved on April 6, 1979 (Board Order 146, 44 FR 22502, 4/16/79) and expanded as follows: on May 26, 1983 (Board Order 211, 48 FR 24958, 6/3/83); on October 23, 1987 (Board Order 365, 52 FR 41599, 10/29/87); on April 19, 1990 (Board Order 470, 55 FR 17478, 4/25/90); on December 15, 1999 (Board Order 1067, 64 FR 72642, 12/28/99); and, on April 14, 2006 (Board Order 1446, 71 FR 23895, 4/25/06).

The general-purpose zone project currently consists of six sites: Site 1 (2,077 acres) -- Port Newark/Elizabeth Port Authority Marine Terminal; Site 2 (64 acres) -- Global Terminal and Container Services and adjacent Jersey Distribution Services facility in Jersey City and Bayonne; Site 3 (124 acres) -- Port Authority Industrial Park, adjacent to the Port Newark/Elizabeth Port Authority Marine terminal; Site 4 (198 acres) -- Port Authority Auto Marine Terminal and adjacent Greenville Industrial Park in Bayonne and Jersey City; Site 5 (40 acres) -- the jet fuel storage and distribution system at Newark International Airport in Newark and Elizabeth; and, Site 6 (407 acres) -- within the 441-acre South Kearny Industrial Park located 100 Central Avenue in Kearny (Hudson County).

The applicant is now requesting authority to expand the general-purpose zone to include four additional sites in Middlesex and Union Counties: Proposed Site 7 (114 acres) -- I-Port 12 industrial park located at exit 12 of the New Jersey Turnpike in Carteret (listed as Site “A” in the application); Proposed Site 8 (176 acres) -- within the 183-acre I-Port 440 industrial park, located east of State Street and north of the Outer Bridge Crossing in Perth Amboy (listed as Site “B” in the application); Proposed Site 9 (317 acres) -- Port Reading Business Park located on Port Reading Avenue in Woodbridge (listed as Site “C” in the application); and,Proposed Site 10 (73 acres) -- Port Elizabeth Business Park located at 10 North Avenue East in Elizabeth (listed as Site “D” in the application). The proposed sites are owned by Titan-PDC Carteret Urban Renewal, LLC (Site 7); P/A PDC Perth Amboy LLC (Site 8); and, ProLogis (Sites 9 and 10). The sites are either vacant or partially developed and will be used for warehousing and distribution activities.

No specific manufacturing requests are being made at this time. Such requests would be made to the Board on a case-by-case basis.

In accordance with the Board's regulations, a member of the FTZ staff has been designated examiner to investigate the application and report to the Board.

Public comment is invited from interested parties. Submissions (original and 3 copies) shall be addressed to the Board's Executive Secretary at the address listed below. The closing period for their receipt is August 21, 2006. Rebuttal comments in response to material submitted during the foregoing period may be submitted during the subsequent 15-day period (to September 5, 2006).

A copy of the application and accompanying exhibits will be available for public inspection at each of the following locations: U.S. Department of Commerce Export Assistance Center, 744 Broad Street, Suite 1505, Newark, NJ 07102; and, Office of the Executive Secretary, Foreign-Trade Zones Board, Room 1115, U.S. Department of Commerce, 1401 Constitution Avenue, NW., Washington, DC 20230.

Dated: June 14, 2006.
Pierre V. Duy,
Acting Executive Secretary.

[FR Doc. E6-9822 Filed 6-20-06; 8:45 am]

BILLING CODE 3510-DS-S